DEPARTMENT OF LABOR

Office of the Secretary

Agency Information Collection Activities; Submission for OMB Review; Comment Request; Labor Organization and Auxiliary Reports

ACTION: Notice.

SUMMARY: The Department of Labor (DOL) is submitting the Office of Labor Management Standards (OLMS) sponsored information collection request (ICR) revision titled, “Labor Organization and Auxiliary Reports,” to the Office of Management and Budget (OMB) for review and approval for use in accordance with the Paperwork Reduction Act (PRA) of 1995 (44 U.S.C. 3501 et seq.).

DATES: Submit comments on or before August 12, 2013.

ADDRESSES: A copy of this ICR with applicable supporting documentation; including a description of the likely respondents, proposed frequency of response, and estimated total burden may be obtained free of charge from the RegInfo.gov Web site at http://www.reginfo.gov/public/do/PRAViewICR?ref_nbr=201306-1245-001 (this link will only become active on the day following publication of this notice) or by contacting Michel Smyth by telephone at 202-693-4129 (this is not a toll-free number) or sending an email to DOL_PRA_PUBLIC@dol.gov.

Submit comments about this request to the Office of Information and Regulatory Affairs, Attn: OMB Desk Officer for DOL-OLMS, Office of Management and Budget, Room 10235, 725 17th Street NW., Washington, DC 20503, Fax: 202-395-6881 (this is not a toll-free number), email: OIRA_submission@omb.eop.gov.

FOR FURTHER INFORMATION: Contact Michel Smyth by telephone at 202-693-4129 (this is not a toll-free number) or by email at DOL_PRA_PUBLIC@dol.gov.

Authority: 44 U.S.C. 3507(a)(1)(D).

SUPPLEMENTARY INFORMATION: The Labor-Management Reporting and Disclosure Act requires a union to file an annual financial report and a copy of the union's constitution and bylaws with the DOL. Under certain circumstances, reports are required of a union officer and employee, employer, labor relations consultant, and surety company. Any such report is available for public disclosure. A filer is required to retain supporting records for five years; a union is also required to retain election records for one year.

This ICR has been classified as a revision, because a LM-2 filer will no longer be required to obtain a digital signature from a third-party vendor. Furthermore, the DOL seeks to transfer the 2011 version of Form LM-30 from OMB Control Number 1245-0005 to Control Number 1245-0003. The DOL will discontinue the pre-2011 From LM-30 under 1205-0005, after the OMB approves the current request, consistent with regulations published on October 26, 2011 (76 FR 66442). For additional substantive information about this ICR, see the related notice published in the Federal Register on April 8, 2013 (78 FR 20948).

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for the ongoing information collection under Control Number 1245-0003. The current approval is scheduled to expire on October 31, 2013; however, it should be noted that existing information collection requirements submitted to the OMB receive a month-to-month extension while they undergo review. New requirements would only take effect upon OMB approval.

Interested parties are encouraged to send comments to the OMB, Office of Information and Regulatory Affairs at the address shown in the ADDRESSES section within 30 days of publication of this notice in the Federal Register. In order to help ensure appropriate consideration, comments should mention OMB Control Number 1245-0003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OLMS.

Title of Collection: Labor Organization and Auxiliary Reports.

OMB Control Numbers: 1245-0003 and 1245-0005.

Affected Public: Private Sector—not-for-profit institutions.

Total Estimated Number of Respondents: 31,501.

Total Estimated Number of Responses: 31,501.

Total Estimated Annual Burden Hours: 4,582,390.

Total Estimated Annual Other Costs Burden: $0.

Dated: July 1, 2013.
Michel Smyth,
Departmental Clearance Officer.

[FR Doc. 2013-16736 Filed 7-11-13; 8:45 am]

BILLING CODE 4510-CP-P